DEPARTMENT OF THE INTERIOR

Bureau of Land Management

[WO 310 1310 03-2410; OMB Approval Number 1004-0074]

Information Collection Submitted to the Office of Management and Budget for Review Under the Paperwork Reduction Act

The proposal for the collection of information listed below has been submitted to the Office of Management and Budget for approval under the provisions of the Paperwork Reduction Act (44 U.S.C. Chapter 35). On March 7, 2000, the Bureau of Land Management (BLM) published a notice in the Federal Register (65 FR 12027) requesting comments on the collection. The comment period ended May 8, 2000. No comments were received. Copies of the proposed collection of information may be obtained by contacting the Bureau's Clearance Office at the phone number listed below.

OMB is required to respond to this request within 60 days but may respond after 30 days. For maximum consideration, your comments and suggestions on the requirement should be made within 30 days directly to the Office of Management and Budget, Interior Department Desk Officer (1004-0074), Office of Information and Regulatory Affairs, Washington, DC 20503, telephone (202) 395-7340. Please provide a copy of your comments to the Bureau Clearance Officer (WO-630) 1849 C St., NW, Mail Stop 401 LS, Washington, DC 20240.

Nature of Comments: We specifically request your comments on the following:

1. Whether the collection of information is necessary for proper functioning of the Bureau of Land Management, including whether the information will have practical utility;

2. The accuracy of BLM's estimate of the burden of collecting the information, including the validity of the methodology assumptions used;

3. The quality, utility, and clarity of the information to be collected; and

4. How to minimize the burden of collecting the information on those who are to respond, including the use of appropriate automated electronic, mechanical, or other forms of information technology.

Title: Oil and Gas and Geothermal Resources Leasing (43 CFR 3120, 3209 and 3220).

OMB Approval Number: 1004-0074.

Abstract: Respondents supply information that will be used to determine the highest qualified bonus bid submitted for a competitive oil and gas or geothermal resources parcel on Federal land and to enable the BLM to complete reviews in compliance with the National Environmental Policy Act. The BLM needs the information to determine the eligibility of an applicant to hold, explore for, develop, and produce oil and gas and geothermal resources on Federal lands.

Forms Numbers: 3000-2 and 3200-9.

Frequency: On occasion.

Description of Respondents: Individuals, small business, large corporations.

Estimated Completion Time: 2 hours each form.

Annual Responses: 443.

Annual Burden Hours: 886.

Bureau Clearance Officer: Carole Smith, (202) 452-0367.

Dated: May 9, 2000.
Carole J. Smith,
Bureau Clearance Officer.

[FR Doc. 00-13072 Filed 5-23-00; 8:45 am]

BILLING CODE 4310-84-M